DEPARTMENT OF COMMERCE

Bureau of Industry and Security

Action Affecting Export Privileges; Yaudat Mustafa Talyi, and International Business Services, Ltd, and Top Oil Tools, Ltd., and Uni-Arab Engineering and Oil Field Services, and Jaime Radi Mustafa and Nureddin Shariff Sehweil; Renewal of Order Temporarily Denying Export Privileges

In the Matter of: Yaudat Mustafa Talyi, a.k.a. Joseph Talyi, 888 Cross Gates Boulevard, Slidell, Louisiana 70458, and, International Business Services, Ltd., 700 Gause Boulevard, Suite 304, Slidell, Louisiana 70458, and, 41 Chamale Cove East, Slidell, Louisiana 70460, and, 2301 Covington Highway 190, Slidell, Louisiana 70460, Respondents; and, Top Oil Tools, Ltd., 41 Chamale Cove East, Slidell, Louisiana 70460, and, Uni-Arab Engineering and Oil Field Services, P.O. Box 46112, Abu Dhabi, United Arab Emirates, and, Al-Gaith Tower, Hamden Street, Flat No. 1202, Abu Dhabi, United Arab Emirates, and, Jaime Radi Mustafa, a.k.a. Radi Mustafa, 888 Cross Gates Boulevard, Slidell, Louisiana 70458, and, Khalidiya, P.O. Box 46112, Abu Dhabi, United Arab Emirates, and, Nureddin Shariff Sehweil, a.k.a. dean Sehweil, 888 Cross Gates Boulevard, Slidell, Louisiana 70458, and, 106 Everest Drive, Slodell, Louisiana 70461, and, Khalidiya, P.O. Box 46112, Abu Dhabi, United Arab Emirates; Related Persons.

Through the Office of Export Enforcement (“OEE”), the Bureau of Industry and Security (“BIS”), U.S. Department of Commerce, has requested that I renew the order (“TDO”) I issued on March 29, 2003, pursuant to § 766.24 of the Export Administration Regulations (currently codified at 15 CFR 730-774 (2003)) (“EAR”),¹ temporarily denying all U.S. export privileges of Yaudat Mustafa Talyi, a.k.a. Joseph Talyi, 888 Cross Gates Boulevard, Slidell, Louisiana 70458 (“Talyi”), and International Business Services, LTD., 700 Gause Boulevard, Suite 304, Slidell, Louisiana 70458, 41 Chamale Cove East, Slidell, Louisiana 70460, and 2301 Covington Highway 190, Slidell, Louisiana 70460 (“IBS”). Pursuant to Sections 766.24(c) and 766.23 of the EAR, the TDO also applies to the following as related persons to Talyi and IBS: Top Oil Tools, Ltd. (“Top Oil”), 41 Chamale Cove East, Slidell, Louisiana 70460; Uni-Arab Engineering and Oil Field Services (“Uni-Arab”), P.O. Box 46112, Abu Dhabi, United Arab Emirates, and, Al-Gaith Tower, Hamden Street, Flat No. 1202, Abu Dhabi, United Arab Emirates; Jaime Radi Mustafa, a.k.a. Radi Mustafa (“Radi Mustafa”), 888 Cross Gates Boulevard, Slidell, Louisiana 70458, and, Khalidiya, P.O. Box 46112, Abu Dhabi, United Arab Emirates; and Nureddin Shariff Sehweil, a.k.a. Dean Sehweil (“Dean Sehweil”), 888 Cross Gates Boulevard, Slidell, Louisiana 70458, and, 106 Everest Drive, Slidell, Louisiana 70461, and, Khalidiya, P.O. Box 46112, Abu Dhabi, United Arab Emirates.

¹ From August 21, 1994 through November 12, 2000, the Act was in lapse. During that period, the President, through Executive Order 12924, which had been extended by successive Presidential Notices, the last of which was August 3, 2000 (3 CFR, 2000 Comp. 397 (2001)), continued the EAR in effect under the International Emergency Economic Powers Act (50 U.S.C. 1701-1707 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 7, 2003 (68 FR 47833 (August 11, 2003)), has continued the EAR in effect under IEEPA.

BIS states in its September 5, 2003 request that, based upon evidence previously adduced that was the basis for the issuance of the September 30, 2002 order and the March 29, 2003 renewal (as modified on July 24, 2003 to add Uni-Arab, Radi Mustafa, and Dean Sehweil as related persons), it believes that a renewal of the TDO is necessary to prevent further violations of U.S. export control laws. Specifically, the evidence indicates that after the TDO was issued on September 30, 2002, the persons currently subject to the TDO deliberately and covertly violated its terms. See BIS Request for Renewal of TDO, dated September 5, 2003, at 5-7. BIS has also established a close and intimate business relationships between Talyi and IBS, and Top Oil, Uni-Arab, Radi Mustafa, and Dean Sehweil, such that continuing to name them as related persons is necessary to prevent evasion of the TDO. See id. at 7-9. Further, BIS has produced evidence in this matter that directly contradicts statements made by Radi Mustafa and Dean Sehweil in sworn affidavits concerning prior unauthorized shipments of U.S.-origin items to Libya by Uni-Arab. See id. at 10-13. Finally, BIS states that both criminal and administrative cases are proceeding against Talyi, IBS and Top Oil that can result in criminal and civil fines, a term of imprisonment, and/or a denial of export privileges, and that renewal of the TDO is necessary to prevent further violations of U.S. export control laws. See id. at 13-14.

Accordingly, I am renewing this order because I have concluded that a TDO continues to be necessary, in the public interest, to prevent an imminent violation of the EAR.

It is therefore ordered:

First, that Yaudat Mustafa Talyi, a.k.a. Joseph Talyi, 888 Cross Gates Boulevard, Slidell, Louisiana 70458 (“Talyi”), and International Business Services, Ltd., 700 Gause Boulevard, Suite 304, Slidell, Louisiana 70458, 41 Chamale Cove East, Slidell, Louisiana 70460, and 2301 Covington Highway 190, Slidell, Louisiana 70460 (“IBS”) (hereinafter collectively referred to as the “denied persons”); and the following persons subject to the Order by their relationship to the denied persons, Top Oil Tools, Ltd., 41 Chamale Cove East, Slidell, Louisiana 70460; Uni-Arab Engineering and Oil Field Services (“Uni-Arab”), P.O. Box 46112, Abu Dhabi, United Arab Emirates, and, Al-Gaith Tower, Hamden Street, Flat No. 1202, Abu Dhabi, United Arab Emirates; Jaime Radi Mustafa, a.k.a. Radi Mustafa (“Radi Mustafa”), 888 Cross Gates Boulevard, Slidell, Louisiana 70458, and, Khalidiya, P.O. Box 46112, Abu Dhabi, United Arab Emirates; and Nureddin Shariff Sehweil, a.k.a. Dean Sehweil (“Dean Sehweil”), 888 Cross Gates Boulevard, Slidell, Louisiana 70458, and, 106 Everest Drive, Slidell, Louisiana 70461, and, Khalidiya, P.O. Box 46112, Abu Dahabi, United Arab Emirates (the “related persons”) (together, the denied persons and the related persons are “persons subject to this Order”) may not, directly or indirectly, participate in any way in any transaction involving any commodity, software or technology (hereafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of a person subject to this Order any item subject to the EAR;

B. Take any action that facilitates the acquisition or attempted acquisition by a person subject to this order of the ownership, possession, or control of any item subject to the EAR that has been or will be exported from the United States, including financing or other support activities related to a transaction whereby a person subject to this order acquires or attempts to acquire such ownership, possession or control;

C. Take any action to acquire from or to facilitate the acquisition or attempted acquisition from a person subject to this order of any item subject to the EAR that has been exported from the United States;

D. Obtain from a person subject to this order in the United States any item subject to the EAR with knowledge or reason to know that the item will be, or is intended to be, exported from the United States; or

E. Engage in any transaction to service any item subject to the EAR that has been or will be exported from the United States and which is owned, possessed or controlled by a person subject to this order, or service any item, of whatever origin, that is owned, possessed or controlled by a person subject to this order if such service involves the use of any item subject to the EAR that has been or will be exported from the United States. For purposes of this paragraph, servicing means installation, maintenance, repair, modification or testing.

Third, that, in addition to the related person named above, after notice and opportunity for comment as provided in section 766.23 of the EAR, any other person, firm, corporation, or business organization related to the denied person by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of § 766.24(e) of the EAR, denied persons may, at any time, appeal this Order by filing a full written statement in support of the appeal with the Office of the Administrative Law Judge, U.S. Coast Guard ALJ Docketing Center, 40 South Gay Street, Baltimore, Maryland 21202-4022. A related person may appeal to the Administrative Law Judge at the aforementioned address in accordance with the provisions of Section 766.23(c) of the EAR.

This Order is effective immediately upon expiration of the order issued on March 29, 2003, or September 25, 2003, and shall remain in effect for 180 days.

A copy of this Order shall be served on Talyi, IBS, Top Oil, Uni-Arab, Radi Mustafa, and Dean Sehweil, and shall be published in the Federal Register.

Entered this 24th day of September, 2003.
Lisa A. Prager,
Acting Assistant Secretary for Export Enforcement.

[FR Doc. 03-24783 Filed 9-29-03; 8:45 am]

BILLING CODE 3510-DT-M